DEPARTMENT OF ENERGY

10 CFR Chs. II, III, and X

48 CFR Ch. 9

Fall 2021 Unified Agenda of Regulatory and Deregulatory Actions

AGENCY: Department of Energy.

ACTION: Semiannual Regulatory Agenda.

SUMMARY: The Department of Energy (DOE) has prepared and is making available its portion of the semiannual Unified Agenda of Federal Regulatory and Deregulatory Actions (Agenda), including its Regulatory Plan (Plan), pursuant to Executive Order 12866, “Regulatory Planning and Review,” and the Regulatory Flexibility Act.

SUPPLEMENTARY INFORMATION: The Agenda is a government-wide compilation of upcoming and ongoing regulatory activity, including a brief description of each rulemaking and a timetable for action. The Agenda also includes a list of regulatory actions completed since publication of the last Agenda. The Department of Energy's portion of the Agenda includes regulatory actions called for by the Energy Policy and Conservation Act of 1975, as amended, and programmatic needs of DOE offices.

The internet is the basic means for disseminating the Agenda and providing users the ability to obtain information from the Agenda database. DOE's entire Fall 2021 Regulatory Agenda can be accessed online by going to www.reginfo.gov.

Publication in the Federal Register is mandated by the Regulatory Flexibility Act (5 U.S.C. 602) only for Agenda entries that require either a regulatory flexibility analysis or periodic review under section 610 of that Act. The Plan appears in both the online Agenda and the Federal Register and includes the most important of DOE's significant regulatory actions and a Statement of Regulatory and Deregulatory Priorities.

Samuel Walsh,
General Counsel.

Energy Efficiency and Renewable Energy—Proposed Rule Stage
Sequence No. | Title | Regulation Identifier No.
255 | Energy Conservation Standards for General Service Lamps | 1904-AD09
256 | Energy Conservation Standards for Residential Conventional Cooking Products | 1904-AD15
257 | Energy Conservation Standards for Residential Non-Weatherized Gas Furnaces and Mobile Home Gas Furnaces | 1904-AD20
258 | Energy Conservation Standards for Commercial Water Heating-Equipment (Reg Plan Seq No. 40) | 1904-AD34
References in boldface appear in The Regulatory Plan in part II of this issue of the Federal Register.

Energy Efficiency and Renewable Energy—Final Rule Stage
Sequence No. | Title | Regulation Identifier No.
259 | Test Procedures for Dehumidifying Direct-Expansion Dedicated Outdoor Air Systems | 1904-AE46

DEPARTMENT OF ENERGY (DOE)

Energy Efficiency and Renewable Energy (EE)

Proposed Rule Stage

255. Energy Conservation Standards for General Service Lamps

Legal Authority: 42 U.S.C. 6295(i)(6)(A)

Abstract: The U.S. Department of Energy (DOE) will issue a Supplemental Notice of Proposed Rulemaking that includes a proposed determination with respect to whether to amend or adopt standards for general service light-emitting diode (LED) lamps and that may include a proposed determination with respect to whether to amend or adopt standards for compact fluorescent lamps.

Timetable:

Action | Date | FR Cite
Framework Document Availability; Notice of Public Meeting | 12/09/13 | 78 FR 73737
Framework Document Comment Period End | 01/23/14
Framework Document Comment Period Extended | 01/23/14 | 79 FR 3742
Framework Document Comment Period Extended End | 02/07/14
Preliminary Analysis and Notice of Public Meeting | 12/11/14 | 79 FR 73503
Preliminary Analysis Comment Period Extended | 01/30/15 | 80 FR 5052
Preliminary Analysis Comment Period Extended End | 02/23/15
Notice of Public Meeting; Webinar | 03/15/16 | 81 FR 13763
NPRM | 03/17/16 | 81 FR 14528
NPRM Comment Period End | 05/16/16
Notice of Public Meeting; Webinar | 10/05/16 | 81 FR 69009
Proposed Definition and Data Availability | 10/18/16 | 81 FR 71794
Proposed Definition and Data Availability Comment Period End | 11/08/16
Final Rule Adopting a Definition for GSL | 01/19/17 | 82 FR 7276
Final Rule Adopting a Definition for GSL Effective | 01/01/20
Final Rule Adopting a Definition for GSL Including IRL | 01/19/17 | 82 FR 7322
Final Rule Adopting a Definition for GSL Including IRL Effective | 01/01/20
Final Rule; Withdrawal of Definition for GSL (Reported as 1904-AE26) | 09/05/19 | 84 FR 46661
Final Rule; Withdrawal of Definition for GSL Effective | 10/07/19
Supplemental NPRM | 01/00/22

Regulatory Flexibility Analysis Required: Yes.

Agency Contact: Stephanie Johnson, General Engineer, Department of Energy, Energy Efficiency and Renewable Energy, 1000 Independence Avenue SW, Building Technologies Office, EE5B, Washington, DC 20585, Phone: 202 287-1943, Email: stephanie.johnson@ee.doe.gov.

RIN: 1904-AD09

256. Energy Conservation Standards for Residential Conventional Cooking Products

Legal Authority: 42 U.S.C. 6295(m)(1); 42 U.S.C. 6292 (a)(10); 42 U.S.C. 6295(h)

Abstract: The Energy Policy and Conservation Act (EPCA), as amended by Energy Independence and Security Act of 2007 (EISA), requires the Secretary to determine whether updating the statutory energy conservation standards for residential conventional cooking products would yield a significant savings in energy use and is technologically feasible and economically justified. The U.S. Department of Energy (DOE) is reviewing the current standards to make such determination.

Timetable:

Action | Date | FR Cite
Request for Information (RFI) | 02/12/14 | 79 FR 8337
RFI Comment Period End | 03/14/14
RFI Comment Period Extended | 03/03/14 | 79 FR 11714
RFI Comment Period Extended End | 04/14/14
NPRM and Public Meeting | 06/10/15 | 80 FR 33030
NPRM Comment Period Extended | 07/30/15 | 80 FR 45452
NPRM Comment Period Extended End | 09/09/15
Supplemental NPRM | 09/02/16 | 81 FR 60784
SNPRM Comment Period Extended | 09/30/16 | 81 FR 67219
SNPRM Comment Period Extended End | 11/02/16
Notice of Proposed Determination and Request for Comment | 12/14/20 | 85 FR 80982
Notice of Proposed Determination Comment Period End | 03/01/21
Second SNPRM | 06/00/22

Regulatory Flexibility Analysis Required: Yes.

Agency Contact: Stephanie Johnson, General Engineer, Department of Energy, Energy Efficiency and Renewable Energy, 1000 Independence Avenue SW, Building Technologies Office, EE5B, Washington, DC 20585, Phone: 202 287-1943, Email: stephanie.johnson@ee.doe.gov.

RIN: 1904-AD15

257. Energy Conservation Standards for Residential Non-Weatherized Gas Furnaces and Mobile Home Gas Furnaces

Legal Authority: 42 U.S.C. 6295(f)(4)(C); 42 U.S.C. 6295(m)(1); 42 U.S.C. 6295(gg)(3)

Abstract: The Energy Policy and Conservation Act, as amended, (EPCA) prescribes energy conservation standards for various consumer products and certain commercial and industrial equipment, including residential furnaces. EPCA also requires the U.S. Department of Energy (DOE) to determine whether more-stringent amended standards would be technologically feasible and economically justified and would save a significant amount of energy. DOE is considering amendments to its energy conservation standards for residential non-weatherized gas furnaces and mobile home gas furnaces pursuant to a court-ordered remand of DOE's 2011 rulemaking for these products.

Timetable:

Action | Date | FR Cite
Notice of Public Meeting | 10/30/14 | 79 FR 64517
NPRM and Notice of Public Meeting | 03/12/15 | 80 FR 13120
NPRM Comment Period Extended | 05/20/15 | 80 FR 28851
NPRM Comment Period Extended End | 07/10/15
Notice of Data Availability (NODA) | 09/14/15 | 80 FR 55038
NODA Comment Period End | 10/14/15
NODA Comment Period Reopened | 10/23/15 | 80 FR 64370
NODA Comment Period Reopened End | 11/06/15
Supplemental NPRM and Notice of Public Meeting | 09/23/16 | 81 FR 65720
Supplemental NPRM Comment Period End | 11/22/16
SNPRM Comment Period Reopened | 12/05/16 | 81 FR 87493
SNPRM Comment Period End | 01/06/17
Notice of NPRM Withdrawal | 01/15/21 | 86 FR 3873
NPRM | 03/00/22

Regulatory Flexibility Analysis Required: Yes.

Agency Contact: Julia Hegarty, Department of Energy, 1000 Independence Avenue SW, Washington, DC 20585, Phone: 240 597-6737, Email: julia.hegarty@ee.doe.gov.

RIN: 1904-AD20

258. Energy Conservation Standards for Commercial Water Heating-Equipment

Regulatory Plan: This entry is Seq. No. 40 in part II of this issue of the Federal Register.

RIN: 1904-AD34

DEPARTMENT OF ENERGY (DOE)

Energy Efficiency and Renewable Energy (EE)

Final Rule Stage

259. Test Procedures for Dehumidifying Direct-Expansion Dedicated Outdoor Air Systems

Legal Authority: 42 U.S.C. 6314(a)(4)

Abstract: Consistent with the requirements under the Energy Policy and Conservation Act (EPCA), as amended, the U.S. Department of Energy (DOE) is seeking to establish a Federal test procedure for dehumidifying direct-expansion dedicated outdoor air systems (DDX-DOASes) under 10 CFR 431.96. For covered equipment addressed in the American Society of Heating, Refrigerating and Air-Conditioning Engineers (ASHRAE) Standard 90.1, the DOE test procedure must be based upon the generally accepted industry testing procedure referenced in that industry consensus standard (42 U.S.C. 6314(a)(4)(A)). The statute further requires that each time the referenced industry test procedure is updated, DOE must amend the Federal test procedure to be consistent with the amended industry test procedure, unless there is clear and convincing evidence that the update would not be representative of an average use cycle or would be unduly burdensome to conduct (42 U.S.C. 6314(a)(4)(B)). Independent of that test procedure review obligation, EPCA also includes a 7-year-lookback review provision for covered commercial and industrial equipment that requires DOE to conduct an evaluation of each class of covered equipment to determine whether amended test procedures would more accurately or fully comply with the requirements that the Federal test procedure be representative of an average use cycle and not be unduly burdensome to conduct (42 U.S.C. 6314(a)(1)). In this test procedure rulemaking for DDX-DOASes, DOE is acting under its authority at 42 U.S.C. 6314(a)(4), and accordingly, it will propose and adopt a new Federal test procedure for this equipment. (The NOPR for this rule was mistakenly published in the Federal Register as RIN 1904-AD93 on July 7, 2021).

Timetable:

Action | Date | FR Cite
Request for Information (RFI) | 07/25/17 | 82 FR 34427
RFI Comment Period Ends | 08/24/17
NPRM (Incorrectly Published as 1904-AD93) | 07/07/21 | 86 FR 36018
NPRM Comment Period End | 09/07/21
Final Rule | 04/00/22

Regulatory Flexibility Analysis Required: Yes.

Agency Contact: Catherine Rivest, General Engineer, Department of Energy, Energy Efficiency and Renewable Energy, 1000 Independence Avenue SW, Building Technologies Office, EE-5B, Washington, DC 20585, Phone: 202 586-7335, Email: catherine.rivest@ee.doe.gov.

RIN: 1904-AE46

[FR Doc. 2022-00284 Filed 1-28-22; 8:45 am]

BILLING CODE 6450-01-P